DEPARTMENT OF JUSTICE

Antitrust Division

Notice Pursuant to the National Cooperative Research and Production Act of 1993—Global Synchronizer Foundation

Notice is hereby given that, on September 18, 2024, pursuant to section 6(a) of the National Cooperative Research and Production Act of 1993, 15 U.S.C. 4301 et seq. (“the Act”), Global Synchronizer Foundation (“GSF”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: Global Blockchain Business Council, Geneve, SWITZERLAND; IntellectEU, Miami, FL; Tradeweb Markets LLC, New York, NY; SBI Digital Asset Holdings Co., Ltd., Tokyo, JAPAN; Calastone Limited, London, UNITED KINGDOM; EquiLend, New York, NY; 7RIDGE Limited, London, UNITED KINGDOM; Broadridge Financial Solutions, Lake Success, NY; BitAlpha, Inc., Miami, FL; Cumberland SV, LLC, Chicago, IL; Digital Asset (Switzerland), GmbH, Zurich, SWITZERLAND; Euroclear SA/NV, Brussels, BELGIUM; Kaleido, Inc., Raleigh, NC; Lending Market Technologies, Miami, FL; Moody's Investors Service, New York, NY; MPC Holding, Inc., Concord, NH; Obsidian Systems, Claymont, DE; Taurus SA, Geneva, SWITZERLAND; and Liberty City Ventures, New York, NY. The general area of GSF's planned activity is to raise, budget, and spend funds in support of running a “SuperValidator Node” on the Canton Network (the financial industry's first privacy-enabled blockchain network); to support the operation of the Canton Network through acting as a synchronizer; and to undertake such other activities as may from time to time be appropriate to further such purpose. Membership in GSF remains open, and GSF intends to file additional written notifications disclosing all changes in membership.

Suzanne Morris,
Deputy Director Civil Enforcement Operations, Antitrust Division.

[FR Doc. 2024-23624 Filed 10-10-24; 8:45 am]

BILLING CODE P